DEPARTMENT OF HEALTH AND HUMAN SERVICES

Health Resources And Services Administration

Agency Information Collection Activities: Proposed Collection; Comment Request

In compliance with the requirement for opportunity for public comment on proposed data collection projects (section 3506(c)(2)(A) of Title 44, United States Code, as amended by the Paperwork Reduction Act of 1995, Pub. L. 104-13), the Health Resources and Services Administration (HRSA) will publish periodic summaries of proposed projects being developed for submission to the Office of Management and Budget (OMB) under the Paperwork Reduction Act of 1995. To request more information on the proposed project or to obtain a copy of the data collection plans, call the HRSA Reports Clearance Officer on (301) 443-1129.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques of other forms of information technology.

Proposed Project: National Health Service Corps (NHSC) Travel Request Worksheet (OMB No. 0915-0278): Extension

Clinicians participating in the Health Resources and Services Administration (HRSA) National Health Service Corps (NHSC) Scholarship Program use the Travel Request Worksheet to receive travel funds from the Federal Government to perform pre-employment interviews at sites on the Approved Practice List. The travel approval process is initiated when a scholar notifies the NHSC's In-Service Support Branch of an impending interview at one or more NHSC approved practice sites.

The Travel Request Worksheet is also used to initiate the relocation process after an NHSC scholar has successfully been matched to an approved practice site. Upon receipt of the Travel Request Worksheet, the NHSC will review and approve or disapprove the request and promptly notify the NHSC contractor regarding authorization of the funding for the relocation.

The burden estimate for this project is as follows:

Form | Number of respondents | Average number of responses per respondent | Total responses | Hours per response | Total burden hours
Travel Request Worksheet | 250 | 2 | 500 | .06 | 30

Send comments to Susan G. Queen, Ph.D., HRSA Reports Clearance Officer, Room 10-33 Parklawn Building, 5600 Fishers Lane, Rockville, Maryland 20857. Written comments should be received within 60 days of this notice.

Dated: August 10, 2006.
Cheryl R. Dammons,
Director, Division of Policy Review and Coordination.

[FR Doc. E6-13390 Filed 8-15-06; 8:45 am]

BILLING CODE 4165-15-P